DEPARTMENT OF THE INTERIOR

Bureau of Land Management

[CO-170-00-1060-JJ]

Public Hearing and Intent To Remove Wild Horses

AGENCY: Bureau of Land Management, Interior.

ACTION: Notice, public hearing and intent to remove wild horses.

SUMMARY: A public meeting is scheduled for July 14, 2000, at the Norwood Log Cabin located at 1120 Lucerne, Norwood, Colorado from 12 noon until 4 p.m. A formal hearing will be conducted to receive statements from the public concerning the use of helicopters and motor vehicles in wild horse management operations within the Spring Creek Basin Wild Horse Herd Management Area (HMA), Colorado for calendar years 2000 and 2001 starting promptly at 2 p.m. Prior to the hearing, general management and planned removal operations for the HMA will be discussed. Periodic removals are necessary in order to maintain the populations within the appropriate management levels (AMLs) established through the planning process as a result of monitoring and analysis of that data in accordance with the National Environmental Policy Act and BLM Policies. This document serves as a Notice of Intent to remove excess wild horses from the Spring Creek Basin HMA.

DATES: July 14, 2000.

LOCATION: Norwood Log Cabin, 1120 Lucerne, Norwood, Colorado.

TIME: The public meeting will begin at 12 noon and end at 2 p.m. The public hearing will begin at 2 p.m. and end at 4 p.m.

FOR FURTHER INFORMATION CONTACT: Gary Thrash, San Juan Field Office, 15 Burnett Court, Durango, Colorado, 81301 (970.385.1371); or Wayne Werkmeister, San Juan Field Office, P.O. Box 210, Dolores, Colorado 81323 (970.882.6828).

SUPPLEMENTARY INFORMATION: The meeting will begin at 12 noon and is open to the public. Interested persons may make oral statements on the subject of helicopter use during the formal hearing. All statements will be recorded. The meeting agenda will include an introduction and opening remarks, a public comment period on the removal plan, and a formal hearing on the use of helicopters during the removal.

Dated: June 22, 2000.
Wayne Werkmeister,
Wild Horse & Burro Specialist.

[FR Doc. 00-16282 Filed 6-29-00; 8:45 am]

BILLING CODE 4310-JB-M